SMALL BUSINESS ADMINISTRATION

[Declaration of Economic Injury Disaster #9U34]

State of Rhode Island (And Contiguous Counties in Connecticut)

Kent County and the contiguous counties of Bristol, Newport, Providence and Washington in the State of Rhode Island; and New London and Windham Counties in the State of Connecticut constitute an economic injury disaster loan area as a result of a fire that occurred on February 20, 2003 in West Warwick, Rhode Island. Eligible small businesses and small agricultural cooperatives without credit available elsewhere may file applications for economic injury assistance as a result of this disaster until the close of business on December 3, 2003 at the address listed below or other locally announced locations: U.S. Small Business Administration, Disaster Area 1 Office, 360 Rainbow Blvd, South 3rd Floor, Niagara Falls, NY 14303.

The interest rate for eligible small businesses and small agricultural cooperatives is 3.189 percent.

The numbers assigned for economic injury for this disaster are 9U3400 for Rhode Island; and 9U3500 for Connecticut.

(Catalog of Federal Domestic Assistance Program No. 59002)
Dated: March 3, 2003.
Hector V. Barreto,
Administrator.

[FR Doc. 03-5611 Filed 3-7-03; 8:45 am]

BILLING CODE 8025-01-P